DEPARTMENT OF JUSTICE

Notice of Lodging of Consent Decree Under the Comprehensive Environmental Response, Compensation, and Liability Act (“CERCLA”)

Notice is hereby given that on June 18, 2012 a proposed consent decree (“proposed Decree”) in United States v. Enstar LLC, Civil Action No. 1:12-cv-01563-MSK was lodged with the United States District Court for the District of Colorado.

In this action under Section 107(a) of the Comprehensive Environmental Response, Compensation, and Liability Act, 42 U.S.C. 9607(a) (“CERCLA”), the United States sought reimbursement of response costs incurred or to be incurred for response actions taken at or in connection with the release or threatened release of hazardous substances at the Butterfly and Burrell Mine Site, (the “Site”) located in the White River National Forest in Rio Blanco County, approximately fourteen miles from the Town of Meeker, Colorado. The proposed Decree requires the settling defendant to pay $2,486,440 to the United States and the State in reimbursement of past response and future response costs.

The proposed Decree provides the settling defendants with a covenant not to sue under Sections 106 and 107(a) of CERCLA, 42 U.S.C. 9606 and 9607(a).

The Department of Justice will receive for a period of thirty (30) days from the date of this publication comments relating to the proposed Decree. Comments should be addressed to the Assistant Attorney General, Environment and Natural Resources Division, and either emailed to pubcomment-ees.enrd@usdoj.gov or mailed to P.O. Box 7611, U.S. Department of Justice, Washington, DC 20044-7611, and should refer to United States v. the Enstar LLC, D.J. Ref. DJ # 90-11-3-10348.

During the public comment period, the proposed Decree may be examined on the following Department of Justice Web site: http://www.usdoj.gov/enrd/Consent_Decrees.html. A copy of the Consent Decree may also be obtained by mail from the Consent Decree Library, P.O. Box 7611, U.S. Department of Justice, Washington, DC 20044-7611, or by faxing or emailing a request to “Consent Decree Copy” EESCDCopy.ENRD@USDOJ.gov, fax number 202-514-0097, phone confirmation number: 202-514-5271. If requesting a copy from the Consent Decree Library by mail, please enclose a check in the amount of $8.50 (25 cents per page reproduction cost) payable to the U.S. Treasury or, if by email or fax, forward a check in that amount to the Consent Decree Library at the stated address.

Robert Brook,
Assistant Section Chief, Environmental Enforcement Section, Environment and Natural Resources Division.

[FR Doc. 2012-15438 Filed 6-25-12; 8:45 am]

BILLING CODE 4410-15-P